DEPARTMENT OF COMMERCE

Bureau of Industry and Security

Action Affecting Export Privileges; Pakland PME Corporation and Humayun Khan; Order Renewing Order Temporarily Denying Export Privileges

In the Matters of: Pakland PME Corporation, Unit 7&8, 2nd Floor, Mohammadi Plaza, Jinnah Avenue, Blue Area, F-6/4, Islamabad-44000, Pakistan, and, Humayun Khan, Unit 7&8, 2nd Floor, Mohammadi Plaza, Jinnah Avenue, Blue Area, F-6/4, Islamabad-44000, Pakistan, Respondents.

Pursuant to Section 766.24 of the Export Administration Regulation (“EAR”),¹ the Bureau of Industry and Security (“BIS”), U.S. Department of Commerce, through its Office of Export Enforcement (“OEE”), has requested that I renew for 180 days an Order temporarily denying export privileges of Pakland PME Corporation, (“Pakland”), Unit 7&8, 2nd Floor, Mohammadi Plaza, Jinnah Avenue, Blue Area, F-6/4, Islamabad-44000, Pakistan and, Humayun Khan, (“Khan”), Unit 7&8, 2nd Floor, Mohammadi Plaza, Jinnah Avenue, Blue Area, F-6/4, Islamabad-44000, Pakistan (hereinafter collectively referred to as the “Respondents”).

¹ The EAR are at 15 CFR parts 730-774 (2005). The EAR are issued under the Export Administration Act of 1979, as amended (50 U.S.C. app. 2401-2420 (2000)) (“EAA”). The EAA lapsed on August 21, 2001. However, the President, through Executive Order 13222 of August 17, 2001 (3 CFR, 2001 Comp. 783 (2002)), as extended by the Notice of August 6, 2004 (69 FR 48763, August 10, 2004), has continued the EAR in effect under the International Emergency Economic Powers Act (50 U.S.C. 1701-1706 (2000)).

On January 31, 2005, I found that evidence presented by BIS demonstrated that the Respondents conspired to do acts that violated the EAR and did in fact commit numerous violations of the EAR by participating in the unlicensed export of triggered spark gaps and oscilloscopes, items controlled for nuclear non-proliferation reasons to Pakistan. I further found that such violations had been significant, deliberate and covert, and were likely to occur again, especially given the nature of the structure and relationships of the Respondents.

OEE has presented additional evidence that Khan has been indicted for his role in the illegal exports of triggered spark gaps and oscilloscopes to Pakistan. In addition, OEE has presented evidence that Khan and Pakland have refused to return to the United States an oscilloscope that was sent to Pakistan for demonstration purposes only. All parties to this TDO have been given notice of the request for renewal.

It Is Therefore Ordered:

First, that the Respondents, Pakland PME Corporation, (“Pakland”), Unit 7&8, 2nd Floor, Mohammadi Plaza, Jinnah Avenue, Blue Area, F-6/4, Islamabad-44000, Pakistan and, Humayun Kahn, (“Khan”), Unit 7&8, 2nd Floor, Mohammadi Plaza, Jinnah Avenue, Blue Area, F-6/4, Islamabad-44000, Pakistan (hereinafter collectively referred to as (“Respondents”), and their successors and assigns and when acting on behalf of any of the Respondents, their officers, employees, agents or representatives, (“Denied Persons”) may not, directly or indirectly, participate in any way in any transaction involving any commodity, software or technology (hereinafter collectively referred to as “item”) exported or to be exported from the United States that is subject to the Export Administration Regulations (“EAR”), or in any other activity subject to the EAR including, but limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Denied Person any item subject to the EAR;

B. Take any action that facilitates the acquisition or attempted acquisition by the Denied Person of the ownership, possession, or control of any item subject to the EAR that has been or will be exported from the United States, including financing or other support activities related to a transaction whereby the Denied Person acquires or attempts to acquire such ownership, possession or control;

C. Take any action to acquire from or to facilitate the acquisition or attempted acquisition from the Denied Person of any item subject to the EAR that has been exported from the United States;

D. Obtain from the Denied Person in the United States any item subject to the EAR with knowledge or reason to known that the item will be, or is intended to be, exported from the United States; or

E. Engage in any transaction to service any item subject to the EAR that has been or will be exported from the United States and which is owned, possessed or controlled by the Denied Person, or service any item, of whatever origin, that is owned, possessed or controlled by the Denied Person if such service involves the use of any item subject to the EAR that has been or will be exported from the United States. For purposes of this paragraph, servicing means installation, maintenance, repair, modification or testing.

Third, that after notice and opportunity for comment as provided in section 766.23 of the EAR, any other person, firm, corporation, or business organization related to any of the Respondents by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, the Respondents may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on the Respondents and the Related Party, and shall be published in the Federal Register.

This order is effective on August 6, 2005, and shall remain in effect for 180 days.

Entered this 1st day of August, 2005.
Wendy L. Wysong,
Acting Assistant Secretary of Commerce for Export Enforcement.

[FR Doc. 05-15477 Filed 8-4-05; 8:45 am]

BILLING CODE 3510-DT-M